DEPARTMENT OF STATE

[Public Notice 3539]

Imposition of Nonproliferation Measures Against a North Korean Entity, Including Ban on U.S. Government Procurement

AGENCY: Bureau of Nonproliferation, Department of State.

ACTION: Notice.

SUMMARY: A determination has been made that a North Korean entity has engaged in activities that require the imposition of measures pursuant to section 3 of the Iran Nonproliferation Act of 2000.

EFFECTIVE DATE: January 2, 2001.

FOR FURTHER INFORMATION CONTACT: On general issues: Vann H. Van Diepen, Office of Chemical, Biological and Missile Nonproliferation, Bureau of Nonproliferation, Department of State, (202-647-1142). On U.S. Government procurement ban issues: Gladys Gines, Office of the Procurement Executive, Department of State (703-516-1691).

SUPPLEMENTARY INFORMATION: Pursuant to sections 2 and 3 of the Iran Nonproliferation Act of 2000 (Pub. L. 106-178), the U.S. Government determined on January 2, 2001, that the measures authorized in section 3 of the Act shall apply to the following foreign entity identified in the report submitted pursuant to section 2(a) of the Act:

Changgwang Sinyong Corporation (North Korea) and any successor, sub-unit, or subsidiary thereof.

Accordingly, pursuant to the provisions of the Act, the following measures are imposed on this entity:

1. No department or agency of the United States Government may procure, or enter into any contract for the procurement of, any goods, technology, or services from the foreign person.

2. No department or agency of the United States Government may provide any assistance to the foreign person, and that person shall not be eligible to participate in any assistance program of the United States Government;

3. No United States Government sales to the foreign person of any item on the United States Munitions List (as in effect on August 8, 1995) are permitted, and all sales to that person of any defense articles, defense services, or design and construction services under the Arms Export Control Act are terminated; and,

4. No new individual licenses shall be granted for the transfer to the foreign person of items, the export of which is controlled under the Export Administration Act of 1979 or the Export Administration Regulations, and any existing such licenses are suspended.

These measures shall be implemented by the responsible departments and agencies of the United States Government and will remain in place until April 6, 2002, except to the extent that the Secretary of State may subsequently determine otherwise. The Secretary of State will make a new determination in the event that circumstances change in such a manner as to warrant a change in the duration of sanctions.

Dated: January 10, 2001.
Robert J. Einhorn,
Assistant Secretary of State for Nonproliferation, U.S. Department of State.

[FR Doc. 01-1362 Filed 1-16-01; 8:45 am]

BILLING CODE 4710-25-U